DEPARTMENT OF AGRICULTURE

Food Safety and Inspection Service

9 CFR Part 381

[Docket No. 98-062E]

Performance Standards for On-line Antimicrobial Reprocessing of Pre-chill Poultry Carcasses

AGENCY: Food Safety and Inspection Service, USDA.

ACTION: Extension of comment period.

SUMMARY: The Food Safety and Inspection Service (FSIS) is extending the comment period for the proposed rulemaking, Performance Standards for On-line Antimicrobial Reprocessing of Pre-chill Poultry Carcasses, which was scheduled to close on January 30, 2001. At the request of the National Chicken Council and the National Turkey Federation, FSIS is granting a 60-day extension to permit the associations to collect additional data. Because the comment period included the holiday season, the requestors asked for additional time to accommodate loss of time and personnel during the holidays. The proposed rule was published on December 1, 2000 (65 FR 75187) and requested comments on the proposed performance standards for poultry products reprocessed on-line and other information and data.

DATES: Comments must be received on or before April 2, 2001.

ADDRESSES: Send one original and two copies of written comments to FSIS Docket No. 98-062P, Department of Agriculture, Food Safety and Inspection Service, Room 102, 300 12th Street, SW., Washington, DC 20250-3700.

FOR FURTHER INFORMATION CONTACT: Daniel L. Engeljohn, Ph.D., Director, Regulations Development and Analysis Division, Office of Policy, Program Development, and Evaluation by telephone at (202) 720-5627 or by fax (202) 690-0486.

Done in Washington, DC, on January 25, 2001.
Thomas J. Billy,
Administrator.

[FR Doc. 01-2652 Filed 1-26-01; 2:34 pm]

BILLING CODE 3410-DM-P